DEPARTMENT OF LABOR

Employment and Training Administration

[TA-W-63,052]

Chrysler LLC, St. Louis North Assembly Plant Including On-Site Leased Workers From HAAS TCM, Inc., Logistics Services, Inc., Robinson Solutions, Logistics Management Services, Inc., Corrigan Company and Murphy Company, Fenton, MO; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on April 14, 2008, applicable to workers of Chrysler LLC, St. Louis North Assembly Plant, Fenton, Missouri. The notice was published in the Federal Register on May 2, 2008 (73 FR 24317).

The certification was subsequently amended on November 18, 2008, December 9, 2008, October 30, 2009 to include several on-site leased workers. The notices were published in the Federal Register on December 1, 2008 (73 FR 72848 December 18, 2008 (73 FR 77069) and November 12, 2009 (74 FR 58316). The certification was amended again on March 31, 2010. The notice will be published soon in the Federal Register.

At the request of the petitioners, the Department reviewed the certification for workers of the subject firm. The workers assemble Dodge Ram full-sized pickup trucks.

New information shows that workers leased from Corrigan Company and Murphy Company were employed on-site at the Fenton, Missouri location of Chrysler LLC, St. Louis North Assembly Plant. The Department has determined that these workers were sufficiently under the control of Chrysler LLC, St. Louis North Assembly Plant to be considered leased workers.

Based on these findings, the Department is amending this certification to include workers leased from Corrigan Company and Murphy Company working on-site at the Fenton, Missouri location of the subject firm.

The intent of the Department's certification is to include all workers employed at Chrysler LLC, St. Louis North Assembly Plant, Fenton, Missouri who were adversely affected by increased imports of Dodge Ram full-sized pickup trucks.

The amended notice applicable to TA-W-63,052 is hereby issued as follows:

All workers of Chrysler LLC, St. Louis North Assembly Plant, including on-site leased workers from HAAS TCM, Inc., Logistics Services, Inc., Robinson Solutions, Logistics Management Services, Inc., Corrigan Company and Murphy Company, Fenton, Missouri, who became totally or partially separated from employment on or after March 18, 2007, through April 14, 2010, are eligible to apply for adjustment assistance under Section 223 of the Trade Act of 1974, and are also eligible to apply for alternative trade adjustment assistance under Section 246 of the Trade Act of 1974.

Signed at Washington, DC, this 20th day of April, 2010.
Del Min Amy Chen,
Certifying Officer, Division of Trade Adjustment Assistance.

[FR Doc. 2010-9927 Filed 4-28-10; 8:45 am]

BILLING CODE 4510-FN-P